DEPARTMENT OF HOMELAND SECURITY

Coast Guard

[Docket No. USCG-2015-0144]

Light Lists—Changes in Distribution Methods

AGENCY: Coast Guard, DHS.

ACTION: Notice.

SUMMARY: The Coast Guard is changing the way in which it makes Light Lists available to the public. The Coast Guard will continue to publish electronic versions of these publications and make them available free of charge, updated weekly, by means of the Internet, but will no longer produce printed Light List volumes.

DATES: Electronic-only publication of the Light Lists began February 23, 2015.

ADDRESSES: The Coast Guard is not requesting but will accept public comments on this change. To make sure that your comments and related material are not entered more than once in the docket, please submit them by only one of the following means:

• Online— http://www.regulations.gov following Web site instructions.

• Fax—202-493-2251.

• Mail or hand deliver—Docket Management Facility (M-30), U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: For information about this document call or email Mr. Frank Parker, Aids to Navigation Division, Commandant (CG-NAV-1), U.S. Coast Guard, 2703 Martin Luther King Jr. Avenue SE., Stop 7418, Washington, DC 20593-7418; telephone (202) 372-1551, email franklin.l.parker@uscg.mil. For information about viewing or submitting material to the docket, call Cheryl Collins, Program Manager, Docket Operations, telephone 202-366-9826, toll free 1-800-647-5527.

SUPPLEMENTARY INFORMATION: The Coast Guard has statutory and treaty obligations to make navigation information available to the public. Coast Guard Light Lists are a means for communicating aids to navigation information that is available nowhere else. Light Lists are available free of charge via the Internet or at a cost through the Government Publishing Office. However, based on emerging technology and the ability to update these volumes on a weekly basis, the cost and time for printing the Light List on an annual basis has reached obsolescence. Technology now allows us to provide the Light List in a timelier and less costly manner via the Internet. The Coast Guard has successfully published updated Light Lists electronically via the Internet for several years. Electronic Light Lists are available on the Coast Guard Navigation Center's Web site at http://www.navcen.uscg.gov/?pageName=lightLists. Light Lists are updated weekly on the Coast Guard Navigation Center's Web site at http://www.navcen.uscg.gov/?pageName=lightListWeeklyUpdates. Electronic nautical publications are authorized for use on commercial vessels. While the Light Lists will no longer be available in government printed form, commercial reproductions may be available in the future. The 2014 editions were the last government printed Light Lists.

Light Lists are referred to in two Coast Guard regulations, 33 CFR 72.05-1 and 72.05-5. They relate to Coast Guard agency management and are general policy statements without binding effect either on the public or on the Coast Guard. Therefore, under the Administrative Procedure Act (5 U.S.C. 551 et seq.), they can be amended without public notice and comment. We expect to revise these regulations to eliminate obsolete references to print distribution, as part of our forthcoming technical amendments to Title 33 of the CFR.

This notice is issued under authority of 5 U.S.C. 552(a).

Dated: March 25, 2015.
Gary C. Rasicot,
Director, Senior Executive Service, U.S. Coast Guard, Marine Transportation Systems Management.

[FR Doc. 2015-07501 Filed 3-31-15; 8:45 am]

BILLING CODE 9110-04-P